NATIONAL AERONAUTICS AND SPACE ADMINISTRATION

[Notice (04-118)]

NASA Advisory Council; Notice of Establishment Pursuant to the Federal Advisory Committee Act, 5 U.S.C. App Section 1 et seq

Agency: National Aeronautics and Space Administration (NASA). The Administrator of the National Aeronautics and Space Administration has determined that the establishment of an Exploration Systems Advisory Committee is necessary and in the public interest in connection with the performance of duties imposed upon NASA by law. This determination follows consultation with the Committee Management Secretariat, General Services Administration.

Name of Committee: Exploration Systems Advisory Committee.

Purpose and Objective: The Committee will advise NASA Administrator on matters related to Exploration Systems. The Committee will draw on the expertise of its members and other sources to provide its advice and recommendations to the Agency. The Committee will hold meetings and make site visits as necessary to accomplish their responsibilities. The Committee will function solely as an advisory board and will comply fully with the provisions of the Federal Advisory Committee Act.

Balanced Membership Plans: The Committee will consist of non-NASA employees. In addition, there may be associated members selected for Committee, Subcommittees or Panels. The Committee may also request appointment of consultants to support specific tasks. Members of the Committee, Subcommittee and Panels will be chosen from among industry, academia, and government with recognized knowledge and expertise in fields relevant to Exploration Systems. Total membership will reflect a balanced view.

Duration: Continuing.

Responsible NASA Official: Dr. Terri Lomax, Explorations Systems Mission Directorate, Office of Research, National Aeronautics and Space Administration, 300 E Street, SW., Washington, DC 20546, telephone (202) 358-1418.

P. Diane Rausch,
Advisory Committee Management Officer, National Aeronautics and Space Administration.

[FR Doc. 04-24450 Filed 11-2-04; 8:45 am]

BILLING CODE 7510-13-P